DEPARTMENT OF HOMELAND SECURITY

Customs and Border Protection

DEPARTMENT OF THE TREASURY

19 CFR Parts 10, 24, 102, 123, 128, 141, 143, 145, and 148

[USCBP-2011-0042]

RIN 1515-AD69

Informal Entry Limit and Removal of a Formal Entry Requirement

AGENCY: Customs and Border Protection, Department of Homeland Security; Department of the Treasury.

ACTION: Notice of proposed rulemaking.

SUMMARY: This document proposes to amend provisions in Customs and Border Protection (CPB) regulations to increase the informal entry limit from $2,000 to $2,500. Section 662 of the Customs Modernization provisions of the North American Free Trade Agreement Implementation Act raised the statutory limit by which the Secretary of the Treasury is authorized to prescribe rules and regulations for the declaration and entry of, among other things, imported merchandise when the aggregate value of the shipment does not exceed an amount specified, but not greater than $2,500. The current limit of $2000 was established in 1998 and while that dollar amount has been unchanged, inflation over the intervening years has reduced the value of that amount in real terms. Consequently, CBP proposes to raise the current informal entry amount to its maximum statutory limit in response to inflation that has occurred and thereby to reduce the administrative burden on importers and other entry filers. Moreover, CBP proposes to remove the language requiring formal entry for certain articles, because with the elimination of absolute quotas under the Agreement on Textiles and Clothing, CBP no longer needs to require formal entries for these articles. This document also makes non-substantive editorial and nomenclature changes.

DATE: Comments must be received on or before December 27, 2011.

ADDRESSES: You may submit comments, identified by USCBP docket number, by one of the following methods:

• Federal eRulemaking Portal: http://www.regulations.gov. Follow the instructions for submitting comments via docket number USCBP-2011-0042.

• Mail: Trade and Commercial Regulations Branch, Regulations and Rulings, Office of International Trade, U.S. Customs and Border Protection, 799 9th Street NW. (Mint Annex), Washington, DC 20229-1179.

Instructions: All submissions received must include the agency name and USCBP docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9 a.m. and 4:30 p.m. at the Trade and Commercial Regulations Branch, Regulations and Rulings, Office of International Trade, U.S. Customs and Border Protection, 799 9th Street NW., 5th Floor, Washington, DC. Arrangements to inspect submitted comments should be made in advance by calling Joseph Clark at (202) 325-0118.

FOR FURTHER INFORMATION CONTACT: Cynthia F. Whittenburg, Trade Facilitation and Administration Division, Office of International Trade, Customs and Border Protection, (202) 863-6512.

SUPPLEMENTARY INFORMATION:

Public Participation

Interested persons are invited to participate in this rulemaking by submitting written data, views, or arguments on all aspects of the proposed rule. Customs and Border Protection also invites comments that relate to the economic, environmental, or federalism effects that might result from this proposed rule. If appropriate to a specific comment, the commenter should reference the specific portion of the proposed rule, explain the reason for any recommended change, and include data, information, or authority that support such recommended change.

Background

All merchandise imported into the customs territory of the United States is subject to entry and clearance procedures. Section 484(a), Tariff Act of 1930, as amended (19 U.S.C. 1484(a)), provides that the “importer of record” or his authorized agent shall: (1) Make entry for imported merchandise by filing such documentation or information as is necessary to enable CBP to determine whether the merchandise may be released from CBP custody; and (2) complete the entry by filing with CBP the declared value, classification and rate of duty applicable to the merchandise and such other documentation or other information as is necessary to enable CBP to properly assess duties on the merchandise and collect accurate statistics with respect to the merchandise and determine whether any other applicable requirement of law is met. Part 142 of the Code of Federal Regulations (19 CFR part 142) implements section 484 of the Tariff Act, as amended, and prescribes procedures applicable to most CBP entry transactions. These procedures are referred to as formal entry procedures and generally involve the completion and filing of one or more CBP forms (such as CBP Form 7501, Entry/Entry Summary, which contains detailed information regarding the import transaction), or their electronic equivalent, as well as the filing of commercial documents pertaining to the transaction. As originally enacted, section 498, Tariff Act of 1930, as amended (subsequently codified at 19 U.S.C. 1498), authorized the Secretary of the Treasury to prescribe rules and regulations for the declaration and entry of, among other things, imported merchandise when the aggregate value of the shipment did not exceed an amount specified, but not greater than $250. Regulations implementing this aspect of section 498 of the Tariff Act, as amended, are contained in Subpart C of part 143 of the CFR (19 CFR part 143) which is entitled “Informal Entry.” Section 662 of the North American Free Trade Agreement Implementation Act (Pub. L. 103-182, 107 Stat. 2057, Dec. 8, 1993) amended section 498 by increasing to $2,500 the maximum dollar amount that the Secretary could prescribe by regulation for purposes of the declaration and entry of merchandise.

In 1998, in accordance with 19 U.S.C. 1498, as amended, CBP raised the informal entry limit to $2,000. Currently, part 143 of title 19 of the CFR (19 CFR part 143) still reflects the $2,000 informal entry limit. In this document CBP proposes to increase the informal entry amount to its statutory maximum limit of $2,500 in response to inflation. The informal entry procedures set forth in subpart C of part 143 are less burdensome than the formal entry procedures prescribed in part 142 of the regulations. By increasing the limit by $500, CBP believes that this proposed change will reduce the overall administrative burden on importers and other entry filers by expanding the availability of the simplified informal entry procedures. In fact, CBP has determined that increasing the informal entry limit to $2,500 will save the trade community approximately $11 million in merchandise processing fees. Accordingly, this document proposes to amend part 143 of the CBP regulations to increase the informal entry limit from $2,000 to $2,500, and to amend any other regulatory provisions that reflect the informal entry limit.

However, 19 CFR 143.22, provides that CBP may require a formal consumption or appraisement entry for any merchandise if deemed necessary for: (a) Import admissibility enforcement purposes, (b) revenue protection, or (c) the efficient conduct of Customs business.

CBP also proposes to remove language stating that formal entry is required for certain “articles valued in excess of $250” that are classified in specified parts of the Harmonized Tariff Schedule of the United States (HTSUS). We propose to remove this language because CBP no longer needs to require formal entries for these articles due to the elimination of absolute quotas and visa requirements for textile articles.

Consequently, CBP proposes to remove paragraph (a) of section 102.24 of title 19 of the CFR, which requires the use of a formal entry and visa or export license for certain shipments of textile or apparel products due to the elimination of quotas formerly established under the Agreement on Textiles and Clothing.

This document also proposes to amend section 143.21(c) of the CBP regulations to correct an erroneous cross-reference.

Explanation of Proposed Amendments

This document proposes to increase the informal entry limit by amending title 19 of the CFR part 143, which establishes the informal entry limit, and parts 10, 24, 123, 128, 141, 145, and 148, which reflect the current informal entry limit. Specifically, this document proposes to replace any references made to “$2,000”, when pertaining to the informal entry limit, with “$2,500”.

To eliminate the language stating that formal entry is required for “articles valued in excess of $250” that are classified in certain parts of the Harmonized Tariff Schedule of the United States (HTSUS), CBP proposes to amend title 19 of the CFR parts 141, 143, and 148.

CBP also proposes to remove paragraph (a) of section 102.24 of title 19 of the CFR due to the elimination of visa programs for textile and apparel imports.

CBP further proposes to amend section 143.21(c) of title 19 of the CFR to correct an erroneous cross-reference.

In addition, this document proposes non-substantive amendments to the CFR to reflect nomenclature changes effected by the transfer of the agency to the Department of Homeland Security and other minor grammatical and editorial edits.

Executive Order 12866

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been designated a “significant regulatory action” although not economically significant, under section 3(f) of Executive Order 12866. Accordingly, the rule has been reviewed by the Office of Management and Budget. CBP has prepared the following analysis to help inform stakeholders of the potential impacts of this proposed rule.

CBP requires importers to submit a completed CBP Form 7501 or its electronic equivalent with each entry of merchandise for consumption. Merchandise valued over $2,000 requires a formal entry—a surety bond is required and the importer may take possession of the merchandise before duties and taxes are assessed. Currently, merchandise valued below $2,000 may be entered informally, with no bond requirement and duties and taxes are assessed immediately, but may require a formal entry at a Port Director's discretion. If finalized, this regulation will increase the ceiling for which merchandise may qualify for an informal entry from $2,000 to $2,500.

Unless exempt under a free trade agreement and in addition to any duty or tax owed, merchandise requiring a formal entry is subject to a 0.21 percent ad valorem merchandise processing fee, which may be no greater than $485 and no less than $25. Any merchandise currently requiring a formal entry with a value of $2,000 to $2,500 is subject to the minimum $25 merchandise processing fee. Entries considered informal entries as a result of the change in the threshold would now be subject to only a $2 merchandise processing fee (assuming they are filed electronically). In FY 2009, CBP processed 476,081 formal entries that were not subject to free trade agreements and were subject to the $25 merchandise processing fee that were valued between $2,000 and $2,500. Consequently, raising the informal entry limited to $2,500 would result in a loss of approximately $12 million in revenues if the $25 merchandise processing fee were not collected for these entries (476,081 × $25 = $11.9 million). Revenues would now be approximately $1 million (476,081 × $2 = $0.95 million), thus the net loss in fees collected would be approximately $11 million ($12 million −$1 million).

Regulatory Flexibility Act

This section examines the impact of the rule on small entities as required by the Regulatory Flexibility Act (5 U.S.C. 603), as amended by the Small Business Regulatory Enforcement and Fairness Act of 1996. A small entity may be a small business (defined as any independently owned and operated business not dominant in its field that qualifies as a small business per the Small Business Act); a small not-for-profit organization; or a small governmental jurisdiction (locality with fewer than 50,000 people).

The proposed regulation, if finalized, will increase the ceiling for informal entries from $2,000 to $2,500. Given the available data, we are not able to estimate the number of small entities potentially affected by this regulation because we are not able to discern whether these informal entries were made by an individual (who would not be considered a small business) or a commercial entity. However, given the number of informal entries filed in FY 2009, the number of entities affected is believed to be significant.

Our analysis, however, demonstrates that this regulation would create a benefit through cost savings to filers of approximately $11 million a year. Thus, to the extent that this rule affects small entities, these entities would experience a small cost savings on a per-transaction basis. The total cost savings per entity would be based on its annual transaction levels. Conversely, brokers may be indirectly affected by this rule if they provide services to affected importers. Again, indirect impacts are driven by the number of transactions. CBP believes that this rule will not have a significant economic impact on a substantial number of small entities. However, CBP welcomes any comments regarding this assessment.

Paperwork Reduction Act

In accordance with the Paperwork Reduction Act of 1995 (44 U.S.C. 3507), an agency may not conduct, and a person is not required to respond to, a collection of information unless the collection of information displays a valid control number assigned by OMB. The collection of information on the Entry Summary and Informal Entry are approved by OMB under collection 1651-0022.

Comments on the collection of information should be sent to the Office of Management and Budget, Attention: Desk Officer of the Department of Homeland Security, Customs and Border Protection, Office of Information and Regulatory Affairs, Washington, DC 20503. A copy should also be sent to the Trade and Commercial Regulations Branch, Office of International Trade, U.S Customs and Border Protection, 799 9th Street NW., (Mint Annex), Washington, DC 20229-1179. Comments should be submitted within the time frame that comments are due regarding the substance of the proposal.

Signing Authority

This proposed regulation is being issued in accordance with 19 CFR 0.1(a)(1) pertaining to the Secretary of the Treasury's authority (or that of his delegate) to approve regulations related to certain customs revenue functions.

List of Subjects

19 CFR Part 10

Customs duties and inspection, Reporting and recordkeeping requirements.

19 CFR Part 24

Customs duties and inspection, Reporting and recordkeeping requirements, Taxes.

19 CFR Part 102

Canada, Customs duties and inspection, Imports, Mexico, Reporting and recordkeeping requirements, Trade agreements.

19 CFR Part 123

Customs duties and inspection, Reporting and recordkeeping requirements.

19 CFR Part 128

Customs duties and inspection, Reporting and recordkeeping requirements.

19 CFR Part 141

Customs duties and inspection, Reporting and recordkeeping requirements.

19 CFR Part 143

Customs duties and inspection, Reporting and recordkeeping requirements.

19 CFR Part 145

Customs duties and inspection, Reporting and recordkeeping requirements.

19 CFR Part 148

Customs duties and inspection, Reporting and recordkeeping requirements, Taxes.

Proposed Amendments to the CBP Regulations

For the reasons set forth in the preamble, parts 10, 24, 102, 123, 128, 141, 143, 145, and 148 of title 19 of the CFR (19 CFR parts 10, 24, 102, 123, 128, 141, 143, 145, and 148) are proposed to be amended as set forth below.

PART 10—ARTICLES CONDITIONALLY FREE, SUBJECT TO A REDUCED RATE, ETC.

1. The general authority citation for part 10 continues to read as follows:

Authority: 19 U.S.C. 66, 1202 (General Note 3(i), Harmonized Tariff Schedule of the United States (HTSUS)), 1321, 1481, 1484, 1498, 1508, 1623, 1624, 3314.

* * * * *

§ 10.1 [Amended]

2. In § 10.1:

a. Introductory paragraph (a) is amended by removing the word “shall” and adding in its place the word “must”, and by removing the sum “$2,000” and adding in its place the sum “$2,500”;

b. Paragraph (a)(1) is amended by removing the first two numerals of the year “19___” and adding in its place the numerals “20___”;

c. Paragraph (a)(2) is amended by removing the word “shall” and adding in its place the word “must”;

d. Paragraph (b) is amended by removing the sum “$2,000” and adding in its place the sum “$2,500”;

e. Paragraph (e) is amended by removing the word “shall” and adding in its place the word “will”;

f. Paragraph (f) is amended by removing the word “shall” each place that it appears and adding in its place the word “must”;

g. Paragraph (g)(1) is amended by:

i. Removing the word “Customs” each place that it appears and adding in its place the term “CBP”;

ii. Removing the word “shall” the first time that it appears and adding in its place the word “must”; and

iii. Removing the word “shall” in the last sentence and adding in its place the word “will”;

h. Paragraph (g)(2) is amended by removing the word “shall” and adding in its place the word “must”, and by removing the word “Customs” and adding in its place the term “CBP”;

i. Paragraph (g)(3) is amended by removing the word “Customs” and adding in its place the term “CBP”, and removing the word “shall” and adding in its place the word “will”;

j. Paragraph (h)(1) is amended by removing the word “Customs” each place that it appears and adding in its place the term “CBP”, and removing the word “shall” each place that it appears and adding in its place the word “must”;

k. Paragraph (h)(2) is amended by removing the word “shall” and adding in its place the word “will”, and by removing the word “Customs” and adding in its place the term “CBP”;

l. Paragraph (h)(3) is amended by removing the word “Customs” each place that it appears and adding in its place the term “CBP”, and removing the word “shall” and adding in its place the word “must”;

m. Introductory paragraph (h)(4) is amended by removing the word “shall” and adding in its place the word “must”;

n. Paragraph (h)(5) is amended by removing the word “Customs” and adding in its place the term “CBP”, and removing the word “shall” and adding in its place the word “will”;

o. Paragraph (h)(5)(i) is amended by removing the word “Customs” each place that it appears and adding in its place the term “CBP”, and by removing the word “shall” each place that it appears and adding in its place the word “must”; and

p. Paragraph (j)(2) is amended by removing the word “Customs” each place that it appears and adding in its place the term “CBP”, and by removing the word “shall” each place that it appears and adding in its place the word “must”.

PART 24—CUSTOMS AND FINANCIAL ACCOUNTING PROCEDURE

3. The general authority citations for part 24 is revised and the specific authority citation for § 24.23 continues to read as follows:

Authority: 5 U.S.C. 301; 19 U.S.C. 58a-58c, 66, 1202 (General Note 3(i), Harmonized Tariff Schedule of the United States), 1505, 1520, 1624; 26 U.S.C. 4461, 4462; 31 U.S.C. 9701; Public Law 107-296, 116 Stat. 2135 (6 U.S.C. 1 et seq.).

* * * * *

Section 24.23 also issued under 19 U.S.C. 3332;

* * * * *

§ 24.23 [Amended]

4. In § 24.23:

a. The introductory paragraph (a)(4) is amended by removing the word “shall” and adding in its place the word “must”;

b. Paragraph (b)(1)(i)(A) is amended by removing the sum “$2,000” and adding in its place the sum “$2,500”;

c. Paragraph (b)(1)(i)(B) is amended by removing the word “shall” each place that it appears and adding in its place the word “must”;

d. Paragraph (b)(1)(ii) is amended by removing the word “shall” each place that it appears and adding in its place the word “will”;

e. Paragraph (b)(3) is amended by removing the sum “$2,000” and adding in its place the sum “$2,500”;

f. Paragraph (b)(4) is amended by removing the sum “$2,000” and adding in its place the sum “$2,500”;

g. Paragraph (c)(1) is amended by removing the word “shall” and adding in its place the word “will”;

h. Paragraph (c)(2)(i) and (ii) are amended by removing the word “shall” and adding in its place the word “will”;

i. Paragraph (c)(3) is amended by removing the word “shall” each place that it appears and adding in its place the word “will”;

j. Paragraph (c)(4) is amended by removing the word “shall” and adding in its place the word “will”;

k. Paragraph (c)(5) is amended by:

i. Removing the word “shall” and adding in its place the word “will”;

ii. Removing the word “Custons” and adding in its place the word “Customs”;

l. Paragraph (d)(1) is amended by:

i. Removing the word “Customs” and adding in its place the term “CBP”; and

ii. Removing the word “shall” and adding in its place the word “must”;

m. Paragraph (d)(2) is amended by:

i. Removing the word “shall” in the first sentence and adding in its place the word “must”;

ii. Removing the word “Customs” and adding in its place the term “CBP”; and

iii. Removing the word “shall” in the last sentence and adding in its place the word “will”;

n. Paragraph (e)(1) is amended by removing the word “Customs”, in its heading and in its text, each place that it appears and adding in its place the word “customs”, and by removing the word “shall” each place that it appears and adding in its place the word “will”; and

o. Paragraph (e)(2) is amended by removing the word “shall” and adding in its place the word “will”, and by removing the word “Customs” and adding in its place the word “customs”.

PART 102—RULES OF ORIGIN

5. The general authority citation for part 102 continues to read as follows:

Authority: 19 U.S.C. 66, 1202 (General Note 3(i), Harmonized Tariff Schedule of the United States), 1624, 3314, 3592.

* * * * *

§ 102.24 [Amended]

6. Section 102.24 is amended by removing paragraph (a), the paragraph designation “(b)”, and the paragraph (b) subject heading.

* * * * *

PART 123—CBP RELATIONS WITH CANADA AND MEXICO

7. The general authority citation for part 123 and the specific authority citations for § 123.4 continue to read as follows:

Authority: 19 U.S.C. 66, 1202 (General Note 3(i), Harmonized Tariff Schedule of the United States (HTSUS)), 1431, 1433, 1436, 1448, 1624, 2071 note.

* * * * *

Section 123.4 also issued under 19 U.S.C. 1484, 1498;

* * * * *

§ 123.4 [Amended]

8. In § 123.4:

a. The introductory paragraph is amended by removing the word “shall” and adding in its place the word “must”, and by removing the word “Customs” and adding in its place the term “CBP”;

b. Paragraph (a) is amended by removing the word “Customs” and adding in its place the term “CBP”;

c. Paragraph (b) is amended by removing the sum “$2,000” and adding in its place the sum “$2,500”, and removing the word “Customs” each place that it appears and adding in its place the term “CBP”;

d. Paragraph (c) is amended by removing the word “Customs” and adding in its place the term “CBP”; and

e. Paragraph (d) is amended by removing the word “Customs” and adding in its place the term “CBP”, and removing the word “shall” and adding in its place the word “must”.

§ 123.92 [Amended]

9. In § 123.92:

a. Paragraph (b)(2)(i) is amended by removing the words “Customs Form (CF)” and adding in its place the term “CBP Form”;

b. Paragraph (b)(2)(ii) is amended by removing the sum “$2,000” and adding in its place the sum “$2,500”, and by removing the term “CF” and adding in its place the words “CBP Form”;

c. Paragraph (b)(2)(iii) is amended by removing the term “CF” and adding in its place the words “CBP Form”; and

d. Paragraph (c)(2) is amended by removing the term “Customs” and adding in its place the word “customs”.

PART 128—EXPRESS CONSIGNMENTS

10. The general authority citation for part 128 continues to read as follows:

Authority: 19 U.S.C. 58c, 66, 1202 (General Note 3(i), Harmonized Tariff Schedule of the United States), 1321, 1484, 1498, 1551, 1555, 1556, 1565, 1624.

* * * * *

§ 128.24 [Amended]

11. In § 128.24:

a. Paragraph (a) is amended by removing the sum “$2,000” each place that it appears and adding in its place the sum “$2,500”;

b. Paragraph (b) is amended by removing the word “Customs” and adding in its place the term “CBP”, and by removing the word “shall” and adding in its place the word “must”;

c. Paragraph (c) is amended by removing the word “Customs” each place that it appears and adding in its place the term “CBP”, and by removing the word “shall” each place that it appears and adding in its place the word “must”;

d. Paragraph (d) is amended by removing the word “Customs” and adding in its place the term “CBP”; and

e. Paragraph (e) is amended by removing, in the text, the word “shall” and adding in its place the word “will”.

PART 141—ENTRY OF MERCHANDISE

12. The general authority citation for part 141 is revised to read as follows:

Authority: 19 U.S.C. 66, 1448, 1484, 1498, 1624.

* * * * *

§ 141.82 [Amended]

13. In § 141.82:

a. Paragraphs (b) and (c) are amended by removing the word “shall” each place that it appears and adding in its place the word “must”; and

b. Paragraph (d) is amended by:

i. Removing the sum “$2,000” and adding in its place the sum “$2,500”;

ii. Removing the words “Sections VII, VIII, XI, and XII; Chapter 94; and”; and

iii. Adding the symbol ”)” after the word “States”.

PART 143—SPECIAL ENTRY PROCEDURES

14. The general authority citation for part 143 is revised to read as follows:

Authority: 19 U.S.C. 66, 1321, 1414, 1481, 1484, 1498, 1624, 1641.

* * * * *

§ 143.21 [Amended]

15. In § 143.21:

a. Paragraphs (a) and (b) are amended by removing the sum “$2,000” and adding in its place the sum “$2,500”;

b. Paragraph (a) is further amended by removing the words “Sections VII, VIII, XI, and XII; Chapter 94 and”;

c. Paragraph (c) is amended by:

i. Removing the sum “$2,000” and adding in its place the sum “$2,500”;

ii. Removing the citation “§ 141.51” and adding in its place the citation “§ 141.52”; and

iii. Removing the words “subheadings from Sections VII, VIII, XI, and XII; or in Chapter 94 and”;

d. Paragraphs (f) and (g) are amended by removing the sum “$2,000” and adding in its place the sum “$2,500”;

e. Paragraph (j) is amended by removing the word “Customs” and adding in its place the term “CBP”;

§ 143.22 [Amended]

16. Section 143.22 is amended by removing the word “Customs” and adding in its place the word “customs”, and by removing the sum “$2,000” and adding in its place the sum “$2,500”.

§ 143.23 [Amended]

17. In § 143.23:

a. The introductory paragraph is amended by removing the word “shall” and adding in its place the word “must”, and by removing the word “Customs” each time it appears and adding in its place the term “CBP”;

b. Paragraphs (b) and (c) are amended by removing the word “Customs” and adding in its place the term “CBP”;

c. Paragraph (d) is amended by:

i. Removing the sum “$2,000” and adding in its place the sum “$2,500”;

ii. Removing the word “Customs” and adding in its place the term “CBP”; and

iii. Removing the words “Sections VII, VIII, XI, and XII; Chapter 94; and”;

d. Paragraph (e) is amended by removing the word “can” and adding in its place the word “may”;

e. Paragraphs (f), (g), and (h) are amended by removing the word “Customs” each time it appears and adding in its place the term “CBP”; and

f. Paragraph (i) is amended by removing the sum “$2,000” and adding in its place the sum “$2,500”.

§ 143.26 [Amended]

18. In § 143.26:

a. Paragraph (a) is amended by removing, in its heading and in its text, the sum “$2,000” each place that it appears and adding in its place the sum “$2,500”; and

b. Paragraph (b) is amended by removing the space between “appropriatel” and “y” to read “appropriately”, and by removing the word “Customs” and adding in its place the word “customs”.

PART 145—MAIL IMPORTATIONS

19. The general authority citation for part 145 and the specific authority citations for §§ 145.4, 145.12, 145.31, 145.35, 145.41 continue to read as follows:

Authority: 19 U.S.C. 66, 1202 (General Notice 3(i), Harmonized Tariff Schedule of the United States), 1624.

* * * * *

Section 145.4 also issued under 18 U.S.C. 545, 19 U.S.C. 1618;

* * * * *

Section 145.12 also issued under 19 U.S.C. 1315, 1484, 1498;

* * * * *

Section 145.31 also issued under 19 U.S.C. 1321;

Section 145.35 through 145.38, 145.41, also issued under 19 U.S.C. 1498;

* * * * *

§ 145.4 [Amended]

20. In § 145.4:

a. Paragraph (a) is amended by removing the word “Customs” the first time it appears and adding in its place the term “CBP”, and by removing the word “Customs” the second time it appears and adding in its place the word “customs”; and

b. Paragraph (c) is amended by:

i. Removing the sum “$2,000” and adding in its place the sum “$2,500”;

ii. Removing the word “Customs” and adding in its place the term “CBP”; and

iii. Removing the word “shall” and adding in its place the word “must”.

§ 145.12 [Amended]

21. In § 145.12:

a. Paragraph (a)(2) is amended by removing the word “shall” and adding in its place the word “will”, and by removing the sum “$2,000” and adding in its place the sum “$2,500”;

b. Paragraph (a)(3) is amended by:

i. Removing the sum “$2,000” each place that it appears and adding in its place the sum “$2,500”;

ii. Removing the word “Customs” the first time that it appears and adding in its place the term “CBP”;

iii. Removing the word “Customs” the second time that it appears and adding in its place the word “customs”; and

iv. Removing the words “shall not” and adding in its place the word “cannot”;

c. Paragraph (a)(4) is amended by:

i. Removing the word “shall” in the first and second sentence and adding in its place the word “will”;

ii. Removing the word “shall” in the last sentence and adding in its place the word “must”; and

iii. Removing the word “Customs” and adding in its place the term “CBP”, and adding the word, “customs” before the word, “station”;

d. Paragraph (b)(1) is amended by:

i. Removing the word “Customs” each place that it appears and adding in its place the term “CBP”;

ii. Removing the word “shall” each place that it appears and adding in its place the word “will”;

iii. Removing the sum “$2,000” and adding in its place the sum “$2,500”; and

iv. Removing the word “shall” and adding in its place the word “will”;

e. Paragraph (b)(2) is amended by removing the word “shall” and adding in its place the word “will”, and by removing the word “Customs” and adding in its place the term “CBP”;

f. Paragraph (c) is amended by:

i. Removing, in its heading and in its text, the sum “$2,000” and adding in its place the sum $2,500”;

ii. Removing the word “Customs” each place that it appears in the first sentence and adding in its place the term “CBP”;

iii. Removing the words “Customs treatment” in the third sentence and adding in its place the words “customs treatment”;

iv. Removing the words “Customs office” and adding in its place the words “CBP office”; and

v. Removing the word “shall” each place that it appears and adding in its place the term “will”;

g. Paragraph (e)(1) is amended by removing the word “Customs” in each place that it appears and adding in its place the term “CBP”, and by removing the word “shall” and adding in its place the word “will”; and

h. Paragraph (e)(2) is amended by:

i. Removing the words “Customs Form” each place that it appears, in its heading and its text, and adding in its place the words “CBP Form”;

ii. Removing the words “Customs officer” and adding in its place the words “CBP officer”;

iii. Removing the words “Customs purposes” and adding in its place the words “customs purposes”;

iv. Removing the word “shall” in the first sentence and adding in its place the word “must”; and

v. Removing the word “shall” in the second sentence and adding in its place the word “will”.

§ 145.31 [Amended]

22. Section 145.31 is amended by removing the word “shall” and adding in its place the word “will”.

§ 145.35 [Amended]

23. Section 145.35 is amended by removing the sum “$2,000” and adding in its place the sum “$2,500”.

§ 145.41 [Amended]

24. Section 145.41 is amended by removing the sum “$2,000” and adding in its place the sum “$2,500”.

PART 148—PERSONAL DECLARATIONS AND EXEMPTIONS

25. The general authority citation for part 148 is revised and the specific authority citations for § 148.51 and 148.64 continue to read as follows:

Authority: 19 U.S.C. 66, 1496, 1498, 1624. The provisions of this part, except for subpart C, are also issued under 19 U.S.C. 1202 (General Note 3(i), Harmonized Tariff Schedule of the United States).

* * * * *

Sections 148.43, 148.51, 148.63, 148.64, 148.74 also issued under 19 U.S.C. 1321;

* * * * *

§ 148.23 [Amended]

26. In § 148.23:

a. Paragraph (c)(1) is amended by removing, in its heading and in its text, the sum “$2,000” and adding in its place the sum “$2,500”;

b. Paragraph (c)(1) is further amended by removing, in the text, the words “Sections VII, VIII, XI, and XII; Chapter 94; and”;

c. Paragraph (c)(2) is amended by removing, in its heading and in its text, the sum “$2,000” and adding in its place the sum “$2,500”; and

d. Paragraph (c)(2) is further amended by removing the words “Sections VII, VIII, XI, and XII; Chapter 94; and”.

§ 148.54 [Amended]

27. Section 148.54(b) is amended by removing the sum “$250” and replacing it with the sum“$2,500”.

Alan D. Bersin,
Commissioner, U.S. Customs and Border Protection.
Approved: October 24, 2011.
Timothy E. Skud,
Deputy Assistant Secretary of the Treasury.

[FR Doc. 2011-27879 Filed 10-27-11; 8:45 am]

BILLING CODE 4810-14-P